DEPARTMENT OF HOMELAND SECURITY

Coast Guard

33 CFR Part 110

[Docket No. USCG-2012-0159]

RIN 1625-AA01

Anchorages; Captain of the Port Puget Sound Zone, WA

Correction

In rule document 2013-03121, appearing on pages 9811-9814 in the issue of Tuesday, February 12, 2013, make the following correction:

§ 110.230 [Corrected]

On page 9813, in the third column, on the eighteenth line from the top, “latitude 47°7′30″ N” should read “latitude 47°47′30″ N”.

[FR Doc. C1-2013-03121 Filed 2-21-13; 8:45 am]

BILLING CODE 1505-01-D